DEPARTMENT OF DEFENSE

Department of the Navy

Notice of Availability of Invention for Licensing; Government-Owned Invention

AGENCY: Department of the Navy, DOD.

ACTION: Notice.

SUMMARY: The Department of the Navy hereby gives notice of the general availability of exclusive or partially exclusive licenses under the following pending patent. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Patent application Serial Number 60/318827 entitled “A Device to Mix and Administer a Mixture of Nitrogen and Oxygen to Create a Continuously Variable Gas Mixture” filed September 14, 2001. The present invention includes a non-rebreathing circuit coupled with computer-controlled gas adjustments. Ambient air is diluted with nitrogen on a breath-by-breath basis to provide precise control over the inspired concentration of oxygen/nitrogen mixture of simulated altitude air on an almost instantaneous basis. Carbon dioxide and water vapor exhaled by the subject are released into the environment, and absorption is not necessary. In addition, the mixed gas can be administered through a standard aviator's oxygen mask, increasing the realism of the simulation and removing obvious external cues on the nature of the experiment. Maintenance on the mixing loop is lower compared to rebreathing units, since no consumable items are necessary to absorb water vapor or carbon dioxide. A mixing device provides a homogenized mixture of nitrogen/oxygen fluid to the user.

DATES: Applications for an exclusive or partially exclusive license may be submitted at any time from the date of this notice.

ADDRESSES: Submit applications to the Office of Technology Transfer, Naval Medical Research Center, 503 Robert Grant Ave., Silver Spring, MD 20910-7500, telephone (301) 319-7428.

FOR FURTHER INFORMATION CONTACT: Dr. Charles Schlagel, Director, Office of Technology Transfer, Naval Medical Research Center, 503 Robert Grant Ave., Silver Spring, MD 20910-7500, telephone (301) 319-7428 or E-Mail at schlagelc@nmrc.navy.mil.

Dated: September 26, 2001.
T.J. Welsh,
Lieutenant Commander, Judge Advocate General's Corps, U.S. Navy, Federal Register Liaison Officer.

[FR Doc. 01-24787 Filed 10-3-01; 8:45 am]

BILLING CODE 3810-FF-P